DEPARTMENT OF THE TREASURY

Federal Law Enforcement Training Center

Renewal of Advisory Committee

AGENCY: Federal Law Enforcement Training Center, Treasury.

ACTION: Notice.

SUMMARY: The Charter for the Advisory Committee to the National Center for State and Local Law Enforcement Training at the Federal Law Enforcement Training Center will renew for a 2-year period beginning October 29, 2001.

FOR FURTHER INFORMATION CONTACT: Reba Fischer, Designated Federal Officer, National Center for State and Local Law Enforcement Training, Federal Law Enforcement Training Center, Glynco, GA 31524, 912-267-2343.

SUPPLEMENTARY INFORMATION: Pursuant to the Federal Advisory Committee Act of October 6, 1972, (Pub. L. 92-463, as amended), and with the approval of the Secretary of the Treasury and the concurrence of the Office of Management and Budget, the Federal Law Enforcement Training Center announces the renewal of the Advisory Committee to the National Center for State and Local Law Enforcement Training. The primary purpose of the Advisory Committee is to provide a forum for discussion and interchange between a broad cross-section of representatives for the law enforcement community and related training institutions on training issues and needs. Although FLETC representatives participate in the training committee activities of the major police 2 membership associations, no forum exists which provides the broad representation required to meet the needs of the National Center. The uniqueness of the program requires an appropriately selected and specifically dedicated group. The Committee does not duplicate functions being performed within Treasury or elsewhere in the Federal Government.

Dated: November 1, 2001.
Bruce P. Brown,
Director, National Center for State and Local Law Enforcement Training.

[FR Doc. 01-28710 Filed 11-15-01; 8:45 am]

BILLING CODE 4810-32-P